DEPARTMENT OF EDUCATION

34 CFR Part 303

Early Intervention Program for Infants and Toddlers With Disabilities

AGENCY: Office of Special Education and Rehabilitative Services, Department of Education.

ACTION: Notice of public meetings about the Part C notice of proposed rulemaking (NPRM).

SUMMARY: On May 9, 2007, the Secretary published the Part C NPRM, proposing to amend the regulations governing the Early Intervention Program for Infants and Toddlers with Disabilities. The Secretary announces plans to hold a series of public meetings to seek comments and suggestions about the proposed rules. The proposed regulations would implement changes made to the Individuals with Disabilities Education Act (IDEA) by the Individuals with Disabilities Education Improvement Act of 2004.

DATES: Four public meetings will be held on June 4, 2007, June 6, 2007, June 11, 2007, and June 14, 2007.

ADDRESSES: We will hold four public meetings about the Part C NPRM:

1. June 4, 2007, 4 p.m. to 7:30 p.m., Portland—Embassy Suites Hotel Portland Airport (Pine & Spruce Room), 7900 Northeast 82nd Avenue, Portland, OR.

2. June 6, 2007, 4 p.m. to 7:30 p.m., Oklahoma City—Metro Technology Centers (Auditorium), 1900 Springlake Drive, Oklahoma City, OK.

3. June 11, 2007, 4 p.m. to 7:30 p.m., Indianapolis—Indiana Government Center South Conference Center (Auditorium), 402 W. Washington Street, Indianapolis, IN.

4. June 14, 2007, 3 p.m. to 7:30 p.m., Washington—Academy for Educational Development, 1825 Connecticut Ave. NW., Washington, DC.

FOR FURTHER INFORMATION CONTACT: Katherine Race, U.S. Department of Education, 400 Maryland Avenue, SW., Room 5145, Potomac Center Plaza, Washington, DC 20202-2600. Telephone: (202) 245-6443.

SUPPLEMENTARY INFORMATION: If you use a telecommunications device for the deaf (TDD), you may call the Federal Relay System (FRS) at 1-800-877-8339.

Individuals with disabilities may obtain this document in an alternative format (e.g. Braille, large print, audiotape, or computer diskette) on request to the contact person listed under FOR FURTHER INFORMATION CONTACT.

Assistance to Individuals With Disabilities at the Public Meetings

The meeting sites are accessible to individuals with disabilities. If you will need an auxiliary aid or service to participate in the meeting (e.g., interpreting service, assistive listening device, or materials in an alternate format), notify the contact person listed in this Notice at least two weeks before the scheduled meeting date. Although, we will attempt to meet a request we receive after that date, we may not be able to make available the requested auxiliary aid or service because of insufficient time to arrange it.

Background

On December 3, 2004, the Individuals with Disabilities Education Improvement Act of 2004 was enacted into law as Pub L. 108-446. Copies of the new law may be obtained at the following Web site: http://edworkforce.

Enactment of the new law provides an opportunity to consider improvements in the regulations implementing Part C of the IDEA that would strengthen the Federal effort to increase flexibility for, and to require accountability of, States in their provision of early intervention services to infants and toddlers with disabilities and their families. The Part C NPRM was published May 9, 2007 in the Federal Register.

Announcement of Public Meetings

The Office of Special Education and Rehabilitative Services will be holding a series of public meetings during June 2007. This notice provides specific information about dates, locations, and times of these meetings (see ADDRESSES earlier in this Notice).

Electronic Access to This Document: You may view this document, as well as all other documents of this Department published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

Dated: May 14, 2007.
John H. Hager,
Assistant Secretary for Special Education and Rehabilitative Services.

[FR Doc. E7-9566 Filed 5-17-07; 8:45 am]

BILLING CODE 4000-01-P